DEPARTMENT OF ENERGY

Blue Ribbon Commission on America's Nuclear Future, Transportation and Storage Subcommittee

AGENCY: Department of Energy, Office of Nuclear Energy.

ACTION: Notice of open meeting.

SUMMARY: This notice announces an open meeting of the Transportation and Storage (T&S) Subcommittee. The T&S Subcommittee is a subcommittee of the Blue Ribbon Commission on America's Nuclear Future (the Commission). The establishment of subcommittees is authorized in the Commission's charter. The Commission was organized pursuant to the Federal Advisory Committee Act (Pub. L. 92-463, 86 Stat. 770) (the Act). This notice is provided in accordance with the Act.

DATES: Thursday, September 23, 2010, 8:30 a.m.-3 p.m.

ADDRESSES: Washington Marriott Hotel, 1221 22nd Street, NW., Washington, DC, Phone: 202-872-1500.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information will be available at http://www.brc.gov.

SUPPLEMENTARY INFORMATION: Background: The President directed that the Commission be established to conduct a comprehensive review of policies for managing the back end of the nuclear fuel cycle. The Commission will provide advice and make recommendations on issues including alternatives for the storage, processing, and disposal of civilian and defense spent nuclear fuel and nuclear waste.

The Co-chairs of the Commission requested the formation of the T&S Subcommittee to answer the question: “[s]hould the US change the way in which it is storing used nuclear fuel and high level waste while one or more final disposal locations are established?”

Purpose of the Meeting: The purpose of the meeting is to hear from Federal, State and local officials, industry representatives, and others having expertise in siting interim storage facilities for spent fuel, and for other similar facilities. The intent is to focus on what attributes and processes have, or have not, worked to support successful siting of potentially controversial facilities in a manner that is transparent, equitable, and that is viewed as credible to the public. The subcommittee will also explore transportation and logistics issues related to such siting efforts.

Tentative Agenda: The meeting is expected to begin at approximately 8:30 a.m. on Thursday, September 23, 2010, with speaker presentations beginning at 8:45 a.m. and ending at 2:15 p.m. A public comment period will be held from 2:15 p.m. to 3 p.m.

Public Participation: Subcommittee meetings are not required to be open to the public; however, the Commission has elected to open the presentation sessions of the meeting to the public. Individuals and representatives of organizations who would like to offer comments and suggestions may do so at the end of the public session on Thursday, September 23, 2010. Approximately 45 minutes will be reserved for public comments from 2:15 p.m. to 3 p.m. Time allotted per speaker will depend on the number who wish to speak but will not exceed 5 minutes. The Designated Federal Officer is empowered to conduct the meeting in a fashion that will facilitate the orderly conduct of business. Those wishing to speak should register to do so beginning at 8 a.m. on September 23, 2010, at the Washington Marriott. Registration will close at noon on September 23, 2010.

Those not able to attend the meeting or have insufficient time to address the subcommittee are invited to send a written statement to Timothy A. Frazier, U.S. Department of Energy, 1000 Independence Avenue, SW., Washington, DC 20585, e-mail to CommissionDFO@nuclear.energy.gov, or post comments on the Commission Web site at http://www.brc.gov.

Additionally, the meeting will be available via live video webcast. The link will be available at http://www.brc.gov.

Minutes: The minutes of the meeting will be available at http://www.brc.gov or by contacting Mr. Frazier. He may be reached at the postal address or e-mail address above.

Issued in Washington, DC, on August 27, 2010.
Rachel Samuel,
Deputy Committee Management Officer.

[FR Doc. 2010-21867 Filed 8-31-10; 8:45 am]

BILLING CODE 6450-01-P